FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than November 29, 2017.

A. Federal Reserve Bank of Dallas (Robert L. Triplett III, Senior Vice President) 2200 North Pearl Street, Dallas, Texas 75201-2272:

1. Ginne Cook Davis Trust under the Cook 2017 Children's Trust Agreement, Byron C. Cook, Trustee, and the Katie L. Cook Trust under the Cook 2017 Children's Trust Agreement, Byron C. Cook, Trustee, to join the Cook Family Group, to retain voting shares of Community Bank Holdings of Texas, Inc. and thereby indirectly retain shares of Community National Bank & Trust of Texas, all of Corsicana, Texas.

Board of Governors of the Federal Reserve System, November 9, 2017.
Yao-Chin Chao,
Assistant Secretary of the Board.

[FR Doc. 2017-24739 Filed 11-15-17; 8:45 am]

BILLING CODE P